DEPARTMENT OF COMMERCE

International Trade Administration

[C-570-995]

Countervailing Duty Investigation of Grain-Oriented Electrical Steel From the People's Republic of China: Preliminary Determination and Alignment of Final Determination With Final Antidumping Duty Determination

Correction

In notice document 2014-05259 appearing on pages 13617-13619 in the issue of Tuesday, March 11, 2014, make the following correction:

On page 13617, in the third column, in the DATES section, “March 12, 2014” should read “March 11, 2014”.

[FR Doc. C1-2014-05259 Filed 3-17-14; 8:45 am]

BILLING CODE 1505-01-D